DEPARTMENT OF ENERGY

Federal Energy Regulatory Commission

[Docket No. EL11-28-000]

Solutions for Utilities, Inc.v. Pacific Gas and Electric Company, Southern California Edison Company, San Diego Gas & Electric Company, California Public Utilities Commission; Notice of Petition

Take notice that on March 21, 2011, pursuant to section 210(h)(2) of the Public Utility Regulatory Policies Act of 1978 (PURPA),¹ Solutions for Utilities, Inc. filed a petition requesting that the Federal Energy Regulatory Commission (Commission) enforce the requirements of PURPA against Pacific Gas and Electric Company (PG&E), Southern California Edison Company (SCE), San Diego Gas & Electric Company (SDG&E), and the California Public Utilities Commission (CPUC), and find that the CPUC failed to follow Commission Rules and Regulations for interstate wholesale sales of electricity and the Commission's Regulations implementing PURPA, in addition to finding PG&E, SCE, & SD&E mislead renewable energy developers regarding interconnection to the electric grid; price to be paid to renewable generators; and non-price terms.

¹ 16 U.S.C. 824a-3(h)(2) (2006).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 20, 2011.

Dated: April 5, 2011.
Nathaniel J. Davis, Sr.,
Deputy Secretary.

[FR Doc. 2011-9298 Filed 4-15-11; 8:45 am]

BILLING CODE 6717-01-P